OVERSEAS PRIVATE INVESTMENT CORPORATION

January 29, 2004 Board of Directors Meeting

time and date: Thursday, January 29, 2004, 1:30 p.m. (Open Portion), 1:45 p.m. (Closed Portion).

place: Offices of the Corporation, Twelfth Floor Board Room, 1100 New York Avenue, NW., Washington, DC.

status: Meeting Open to the Public from 1:30 p.m. to 1:45 p.m. Closed portion will commence at 1:45 p.m. (approx.)

matters to be considered:

1. President's Report

2. Approval of October 30, 2003 Minutes (Open Portion)

3. Approval of the January 6, 2004 Minutes (Open Portion)

4. Testimonial—George J. Kourpias

further matters to be considered: (Closed to the Public 1:45 p.m.)

1. Finance Project—Caribbean and Central America

2. Finance Project—Latin America

3. Finance Project—Latin America

4. Insurance Project—Gaza

5. Approval of October 30, 2003 Minutes (Closed Portion)

6. Approval of January 6, 2004 Minutes (Closed Portion)

7. Pending Major Projects

8. Reports

FOR FURTHER INFORMATION CONTACT: Information on the meeting may be obtained from Connie M. Downs at (202) 336-8438.

Dated: January 22, 2004.
Connie M. Downs,
Corporate Secretary, Overseas Private Investment Corporation.

[FR Doc. 04-1673 Filed 1-22-04; 1:13 pm]

BILLING CODE 3210-01-M